DEPARTMENT OF LABOR

Employment and Training Administration

Notice of Availability of Funds and Funding Opportunity Announcement for Face Forward 3-Intermediary and Community Grants

AGENCY: Employment and Training Administration, Labor.

ACTION: Funding Opportunity Announcement (FOA).

Funding Opportunity Number: FOA-ETA-15-04.

SUMMARY: The Employment and Training Administration (ETA) plans to award four intermediary organization grants of $5,000,000 each and approximately 10 community organization grants of up to $1,050,000 each, totaling approximately $30,500,000 to provide services to youth between the ages of 14 to 24 that have been involved in the Juvenile Justice System and never convicted in the adult criminal system.

Face Forward 3-Intermediary and Community grants will build on existing promising practices to assist youth participants, such as earning industry-recognized credentials in demand occupations and sectors, participating in self-exploration activities, providing on-the-job training (OJT) and work-based learning opportunities, participating in career planning and management activities, and strengthening industry and employer connections to ensure that the training program directly aligns with the skills and credentials needed to secure employment.

The complete FOA and any subsequent FOA amendments in connection with this solicitation are described in further detail on ETA's Web site at http://www.doleta.gov/grants/ or on http://www.grants.gov. The Web sites provide application information, eligibility requirements, review and selection procedures, and other program requirements governing this solicitation.

DATES: The closing date for receipt of applications under this announcement is April 23, 2015. Applications must be received no later than 4:00:00 p.m. Eastern Time.

FOR FURTHER INFORMATION CONTACT: Denise Roach, 200 Constitution Avenue NW., Room N-4716, Washington, DC 20210; Telephone: 202-693-3820. The Grant Officer for this FOA is Melissa Abdullah.

Signed March 11, 2015 in Washington, DC
Eric D. Luetkenhaus,
Grant Officer/Division Chief, Employment and Training Administration.

[FR Doc. 2015-06022 Filed 3-16-15; 8:45 am]

BILLING CODE 4510-FT-P